DEPARTMENT OF ENERGY

Federal Energy Regulatory Commission

[Docket No. ER01-2354-000]

Bangor Hydro-Electric Company; Notice of Filing

June 25, 2001.

Take notice that on June 15, 2001, pursuant to Section 2.11 of the Settlement Agreement filed on November 1, 2000, in Docket No. ER00-980-000, and accepted and modified by the Federal Energy Regulatory Commission (Commission) on February 26, 2001, Bangor-Hydro Electric Company (Bangor Hydro) submits this informational filing showing the implementation of Bangor Hydro's open access transmission tariff formula rate for the charges that became effective on June 1, 2001.

Copies of this filing were sent to Bangor Hydro's open access transmission tariff customers that have requested to receive a copy (Indeck Maine Energy, L.L.C.), the Commission Trial Staff, the Maine Public Utilities Commission, and the Maine Public Advocate.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 6, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16418 Filed 6-28-01; 8:45 am]

BILLING CODE 6717-01-M